DEPARTMENT OF JUSTICE

Notice of Lodging of Consent Decree Pursuant to the Clean Air Act

Notice is hereby given that a proposed Consent Decree (“Decree”) in United States v. Preston Engravers, Inc., Civil Action No. 3:99CV1273(JBA) (D. Conn.), and United States v. Roto-Die Company, Inc. d/b/a Rotometrics Group and Micrometrics Systems, Civil Action No. 4:99CV10186SNL (E.D. Mo.), was lodged on February 5, 2001, with the United States District Court for the District of Connecticut.

The complaints in these cases allege that defendants Preston Engravers, Inc. (“Preston”) and Roto-Die Company, Inc. (“Roto-Die”) (collectively the “Defendants”) violated section 112 of the Clean Air Act (“CAA”), 42 U.S.C. 7412, and the National Emission Standard for Chromium Emissions from Hard and Decorative Chromium Electroplating and Chromium Anodizing Tanks (the “Chromium Electroplating NESHAP”) at machine tooling facilities owned and/or operated by the Defendants in East Windsor, Connecticut, Eureka, Missouri, and Meadows of Dan, Virginia.

Under the proposed Decree, Defendants shall pay the United States a civil penalty of $245,000.00. Moreover, the Decree requires Defendants to, inter alia, refrain from further violating the CAA, to complete the development of and implementation of an operation and maintenance plan for each of the three facilities operated by Defendants, and to submit four quarterly reports to EPA for each facility documenting the ongoing compliance with relevant emission limits for the affected sources.

The Department of Justice will receive, for a period of thirty (30) days from the date of this publication, comments relating to the proposed consent decree. Comments should be addressed to the Assistant Attorney General for the Environment and Natural Resources Division, Department of Justice, P.O. Box 7611, Washington, D.C. 20044-7611, and should refer to United States v. Preston Engravers, Inc., DOJ Ref. #90-5-2-1-06029 and/or United States v. Roto-Die Company, Inc., d/b/a Rotometrics Group and Micrometrics Systems, DOJ Ref. #90-5-2-1-06032.

The proposed consent decree may be examined at the office of the United States Attorney, District of Connecticut, 157 Church Street, New Haven, Connecticut 06510, (203) 821-3700; the office of the United States Attorney, Eastern District of Missouri, United States Court & Customs House, 1114 Market Street, Room 401, St. Louis, Missouri 63101, (314) 539-2200; the Region I Office of the Environmental Protection Agency, 1 Congress Street, Suite 1100, Boston, Massachusetts 02114, (617) 918-2001; the Region III Office of the Environmental Protection Agency, 1650 Arch Street, Philadelphia, Pennsylvania 19103-2029, (215) 814-2900; and the Region VII Office of the Environmental Protection Agency, 901 North Fifth Street, Kansas City, Kansas 66101, (913) 551-7010. A copy of the proposed Consent Decree may be obtained by mail from the Consent Decree Library, P.O. Box 7611, Washington, D.C. 20044. In requesting a copy please refer to the referenced case and enclose a check in the amount of $7.25 (25 cents per page reproduction costs), payable to the Consent Decree Library.

Ronald G. Gluck,
Assistant Chief, Environmental Enforcement Section, Environment Natural Resources Division.

[FR Doc. 01-5059 Filed 3-1-01; 8:45 am]

BILLING CODE 4410-15-M